DEPARTMENT OF TRANSPORTATION

Federal Aviation Administration

14 CFR Part 71

[Docket No. FAA-2013-1020; Airspace Docket No. 13-AWP-20]

Establishment of Class E Airspace, and Amendment of Class D and Class E Airspace; Prescott, AZ

AGENCY: Federal Aviation Administration (FAA), DOT.

ACTION: Final rule.

SUMMARY: This action establishes Class E airspace and modifies Class D and Class E surface area airspace at Prescott, AZ, to accommodate aircraft departing and arriving under Instrument Flight Rules (IFR) at Ernest A. Love Field. New Area Navigation (RNAV) Global Positioning System (GPS) standard instrument approach procedures have made this action necessary for the safety and management of IFR operations at the airport. The geographic coordinates of the airport are adjusted in the respective Class D and Class E airspace areas. This also corrects the airport name to Ernest A. Love Field.

DATES: Effective 0901 UTC, April 30, 2015. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed on line at http://www.faa.gov/airtraffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Regulations Group, Federal Aviation Administration, 800 Independence Avenue SW., Washington, DC 29591; telephone: 202-267-8783.

FOR FURTHER INFORMATION CONTACT: Steve Haga, Federal Aviation Administration, Operations Support Group, Western Service Center, 1601 Lind Avenue SW., Renton, WA 98057; telephone (425) 203-4563.

SUPPLEMENTARY INFORMATION:

History

On September 2, 2014 the FAA published in the Federal Register a notice of proposed rulemaking (NPRM) to amend the Class D and Class E airspace areas at Ernest A. Love Field, Prescott, AZ (79 FR 51920). Interested parties were invited to participate in this rulemaking effort by submitting written comments on the proposal to the FAA. No comments were received.

Class D and E airspace designations are published in paragraph 5000, 6002, 6004, and 6005, respectively, of FAA Order 7400.9Y, dated August 6, 2014, and effective September 15, 2014, which is incorporated by reference in 14 CFR 71.1. The Class E airspace designation listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This action amends Title 14 Code of Federal Regulations (14 CFR) Part 71 by establishing Class E surface area airspace designated as an extension to Class D surface area within a 6-mile radius of Ernest A. Love Field, Prescott, Arizona, having a segment extending from the 6-mile radius of the airport to 11 miles southwest. Class E surface area airspace is amended by adding a segment from the 6-mile radius of the airport to 11 miles southwest. Class E airspace extending upward from 700 feet above the surface is modified to within a 18.7-mile radius of the airport; the Class E airspace area extending upward from 1,200 feet above the surface is modified to within a 22-mile radius of the airport clockwise east to west, and within a 38-mile radius of the airport to the north. Controlled airspace is necessary to accommodate RNAV (GPS) standard instrument approach procedures at the airport and enhances the safety and management of IFR operations. The geographic coordinates of the airport are updated to coincide with the FAA's aeronautical database for the respective Class D and Class E airspace areas. This action also corrects the airport name in the Class D and Class E surface area airspace descriptions from Prescott, Ernest A. Love Field to Ernest A. Love Field.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Ernest A. Love Field, Prescott, AZ.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 5000 Class D airspace.

* * * * *

AWP AZ D Prescott, AZ [Modified]

Ernest A. Love Field, AZ

(Lat. 34°39′17″ N, long. 112°25′09″ W)

That airspace extending upward from the surface to and including 7,500 feet MSL within a 6-mile radius of Ernest A. Love Field. This Class D airspace area is effective during the specific dates and times established in advance by a Notice to Airmen. The effective date and time will thereafter be published in the Airport/Facility Directory.

Paragraph 6002 Class E airspace Designated as Surface Areas.

* * * * *

AWP AZ E2 Prescott, AZ [Modified]

Ernest A. Love Field, AZ

(Lat. 34°39′17″ N, long. 112°25′09″ W)

Within a 6-mile radius of Ernest A. Love Field, and within 2 miles each side of the 222° bearing of the airport extending from the 6-mile radius to 11 miles southwest of the airport. This Class E airspace area is effective during the specific dates and times established in advance by a Notice to Airmen. The effective date and time will thereafter be published in the Airport/Facility Directory.

Paragraph 6004 Class E airspace areas designated as an extension to Class D or Class E surface area.

* * * * *

AWP AZ E4 Prescott, AZ [New]

Ernest A. Love Field, AZ

(Lat. 34°39′17″ N, long. 112°25′09″ W)

That airspace extending upward from the surface within 2 miles each side of the Ernest A. Love Field 222° bearing extending from the 6-mile radius of the airport to 11 miles southwest of the airport. This Class E airspace area is effective during the specific dates and times established in advance by a Notice to Airmen. The effective date and time will thereafter be continuously published in the Airport/Facility Directory.

Paragraph 6005 Class E airspace areas extending upward from 700 feet or more above the surface of the earth.

* * * * *

AWP AZ E5 Prescott, AZ [Modified]

Ernest A. Love Field, AZ

(Lat. 34°39′17″N, long. 112°25′09″ W)

That airspace extending upward from 700 feet above the surface within a 18.7-mile radius of the Ernest A. Love Field; that airspace extending upward from 1,200 feet above the surface within a 22-mile radius of Ernest A. Love Field, extending clockwise from the 047° bearing of the airport to the 300° bearing of the airport, and that airspace within a 38-mile radius of the airport extending clockwise from the 300° bearing of the airport to the 047° bearing of the airport.

Issued in Seattle, Washington, on February 27, 2015.
Johanna Forkner,
Acting Manager, Operations Support Group, Western Service Center, AJV-W2.

[FR Doc. 2015-05709 Filed 3-12-15; 8:45 am]

BILLING CODE 4910-13-P